DEPARTMENT OF HOMELAND SECURITY

Coast Guard

46 CFR Part 12

[USCG-2003-14500]

RIN 1625-AA81

Validation of Merchant Mariners' Vital Information and Issuance of Coast Guard Merchant Mariner's Document (MMDs); Correction

AGENCY: Coast Guard, DHS.

ACTION: Interim rule; correction.

SUMMARY: On January 6, 2004, the Coast Guard published an interim rule in the Federal Register implementing regulations for the validation of Merchant Mariner's vital information and issuance of Coast Guard Merchant Mariner's Documents (MMDs). This notice contains a correction to that rule.

DATE: Effective on February 11, 2004.

FOR FURTHER INFORMATION CONTACT: Commander Dave Dolloff, Project Manager, National Maritime Center (NMC), Coast Guard, telephone 202-493-1021.

SUPPLEMENTARY INFORMATION: The Coast Guard published an interim rule in the Federal Register of January 6, 2004, (69 FR 526) concerning Merchant Mariners Documents. An essential paragraph was inadvertently omitted from the “Background and Purpose” section. The omitted paragraph is needed to further clarify the Coast Guard's intentions governing the validation of merchant mariners' vital information and issuance of Merchant Mariner's Documents. This correction adds that paragraph.

In interim rule FR Doc. 03-32318, published January 6, 2004, (69 FR 526) make the following correction. On page 528, in the first column, following the paragraph ending in the word “appeal,” add the following paragraph:

The Department of Homeland Security (DHS), under the authority of the Aviation and Transportation Security Act and the Maritime Transportation Security Act of 2002, is developing a program that can be used to control access to secure areas in vessels, facilities, and ports. This program includes a system-wide transportation worker identification card which is currently under development. DHS is developing this program through the Transportation Security Administration (TSA), the Coast Guard, and other Federal agencies, including others within DHS.

The Coast Guard will work with TSA to ensure that the regulations for obtaining Merchant Mariner Documents are consistent with this initiative to minimize future impacts on mariners.

Dated: January 30, 2004.
T.H. Gilmour,
Rear Admiral, U.S. Coast Guard, Assistant Commandant for Marine Safety, Security and Environmental Protection.

[FR Doc. 04-2992 Filed 2-10-04; 8:45 am]

BILLING CODE 4910-15-U